DEPARTMENT OF DEFENSE

Office of the Secretary

[Docket ID: DoD-2021-OS-0080]

Submission for OMB Review; Comment Request

AGENCY: The Office of the Under Secretary of Defense for Personnel and Readiness (OUSD(P&R)), Department of Defense (DoD).

ACTION: 30-Day information collection notice.

SUMMARY: The Department of Defense has submitted to OMB for clearance the following proposal for collection of information under the provisions of the Paperwork Reduction Act.

DATES: Consideration will be given to all comments received by April 14, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Status of the Forces Survey of Active Duty Members; OMB Control Number 0704-0624.

Type of Request: Revision.

Number of Respondents: 16,500.

Responses per Respondent: 1.

Annual Responses: 16,500.

Average Burden per Response: 20 minutes.

Annual Burden Hours: 5,500 hours.

Needs and Uses: The purpose of the Status of the Forces Survey (SOFS) of Active Duty Members is to assess the attitudes and opinions of active duty members and to provide key metrics to the OUSD(P&R). Results of this and subsequent surveys are used to provide direct feedback on key strategic indicators such as satisfaction and retention. These indicators provide primary data on personnel career plans, retention decisions, morale, commitment, and quality of life and historically provide the ability to evaluate the impact of policies and programs with regard to readiness and retention. The surveys are benchmarks by which senior DoD officials can track trends over time. Data from the surveys will be presented to the OUSD(P&R), Military Departments, Congress, and DoD policy and program offices. Analysis will include the Office of People Analytics' (OPA) standard products: A tabulation volume (a set of relative frequency distributions of each question, and cross-tabulations of survey questions by key stratifying variables), briefing slides and reports highlighting key findings, and a statistical methodology report. Ad hoc analyses requested by the policy office sponsors and other approved organizations may be conducted as needed and based on available staff. These projects take approximately one year to complete, including assessment design and development, fielding and administration, and data analysis and reporting. In addition, as mandated by the National Defense Authorization Act for Fiscal Year 2016, Title VI, Subtitle F, Subpart 661, the Defense Manpower Data Center, now OPA, fields a financial literacy and preparedness survey within the SOFS annually. Results will be used by the Service Secretaries to evaluate and update financial literacy training and will be submitted in a report to the Committees on Armed Services of the Senate and the House of Representatives.

Affected Public: Individuals or households.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: March 8, 2022.
Aaron T. Siegel,
Alternate OSD Federal Register, Liaison Officer, Department of Defense.

[FR Doc. 2022-05442 Filed 3-14-22; 8:45 am]

BILLING CODE 5001-06-P